DEPARTMENT OF LABOR

Employment and Training Administration

[NAFTA-05163]

Tyco Electronics Fiber Optics Division, Glen Rock, Pennsylvania; Notice of Negative Determination Regarding Application for Reconsideration

By application dated October 12, 2001, a former employee requested administrative reconsideration of the Department's negative determination regarding eligibility to apply for North American Free Trade Agreement—Transitional Adjustment Assistance (NAFTA-TAA), applicable to workers and former workers of the subject firm. The denial notice was signed on September 28, 2001, and was published in the Federal Register on October 19, 2001 (66 FR 53252).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The denial of NAFTA-TAA for workers engaged in activities related to the production of fiber optic connectors at Tyco Electronics, Fiber Optics Division, Glen Rock, Pennsylvania was based on the finding that criteria (3) and (4) of that group eligibility requirement of paragraph (a)(1) of section 250 of the Trade Act, as amended, were not met. There were no company imports of fiber-optic connectors from Mexico or Canada, nor did the company shift plant production from the Glen Rock, Pennsylvania plant to Mexico or Canada. The preponderance in the declines in employment at the subject firm was related to a shift in plant production to another affiliated domestic plant.

The petitioner alleges that plant production was shifted to an affiliated plant located in Mexico.

Information provided by the company shows that a negligible portion of the plant production was shifted to Mexico during the relevant period of the investigation. The overwhelming (over 98%) portion of subject plant production was transferred to Harrisburg, Pennsylvania. No plant machinery was transferred to Mexico during the relevant period.

The petitioners supplied a list of products that they indicated were transferred to Mexico. The overwhelming majority of these products were transferred prior to the relevant time frame of the investigation. Some of these products were produced at the subject firm only when orders required quick turn around time. The majority of these products were procured at a sister facility located in Harrisburg, Pennsylvania when quick turn around times were required. The quick turn around products equivalent to what the Mexican plant produced account for a relatively small portion of products that were produced at the subject plant.

The petitioner also claims that plant workers trained workers from an affiliated Mexican plant.

The workers did train workers from the Mexican plant during the relevant time frame. However, the training relates to only a negligible portion of production performed at the subject plant.

Conclusion

After review of the application and investigative findings, I conclude that there has been no error of misinterpretation of the law or of the facts which would justify reconsideration of the Department of Labor's prior decisions. Accordingly, the application is denied.

Signed at Washington, DC, this 22nd day of January 2002.
Edward A. Tomchick,
Director, Division of Trade Adjustment Assistance.

[FR Doc. 02-2694 Filed 2-4-02; 8:45 am]

BILLING CODE 4510-30-M